DEPARTMENT OF AGRICULTURE

Commodity Credit Corporation

7 CFR Part 1470

[Docket No. NRCS-2019-0020]

RIN 0578-AA67

Conservation Stewardship Program (CSP); Corrections

AGENCY: Commodity Credit Corporation, United States Department of Agriculture.

ACTION: Correcting amendments.

SUMMARY: The Commodity Credit Corporation (CCC) revised the Conservation Stewardship Program (CSP) regulation in the final rule published in the Federal Register on October 9, 2020, in response to public comments. Changes were published in the final rule that revised the definition for resource-conserving crop. As part of a recent review, a technical error in the definition of “resource-conserving crop” was discovered. This document corrects the error. In addition, there was an inadvertent error and the definition for “resource-conserving crop rotation” needs to be reinstated; the definition remains unchanged from the interim rule as published in the Federal Register on November 12, 2019.

DATES: Effective: August 3, 2021.

FOR FURTHER INFORMATION CONTACT: Michael Whitt. Phone: (202) 690-2267 or email: michael.whitt@usda.gov. Persons with disabilities who require alternative means for communication should contact the USDA Target Center at (202) 720-2600 (voice).

SUPPLEMENTARY INFORMATION: CCC revised the definition for “resource-conserving crop” in 7 CFR 1470.3 in the final rule published in the Federal Register on October 9, 2020 (85 FR 63993-64003). As part of a recent review, a technical error in the definition of “resource-conserving crop” was discovered. This document corrects the error.

CCC previously revised the definition for “resource-conserving crop rotation” in 7 CFR 1470.3 in the interim rule published in the Federal Register on November 12, 2019 (84 FR 60883-60900). It appears that when the definition for “resource-conserving crop” was revised in October that the definition for “resource-conserving crop rotation” was inadvertently removed. This document reinstates the definition for “resource-conserving crop rotation” as it appeared in the November 2019 interim rule.

List of Subjects in 7 CFR Part 1470

Administrative practice and procedure, Agricultural commodities, Agriculture, Conservation activities, Forests and forest products, Government contracts, Grazing lands, Natural resources, Soil conservation, Technical assistance, Water resources, Water supply, Wildlife.

Accordingly, 7 CFR part 1470 is corrected by making the following correcting amendments:

PART 1470—CONSERVATION STEWARDSHIP PROGRAM

1. The authority citation for part 1470 continues to read as follows:

Authority: 16 U.S.C. 3839aa-21—3839aa-25.

2. Amend § 1470.3 as follows:

a. Remove the two definitions for “resource-conserving crop”; and

b. Add a new definition for “resource-conserving crop” and a definition for “Resource-conserving crop rotation” in alphabetical order.

The additions read as follows:

§ 1470.3 Definitions.

* * * * *

Resource-conserving crop means a crop that is one of the following, as determined by NRCS:

(1) A perennial grass;

(2) A legume grown for use as a cover crop, forage, seed for planting, or green manure;

(3) A legume-grass mixture or grass-forb mixture; or

(4) A non-fragile residue or high residue crop or a crop that efficiently uses soil moisture, reduces irrigation water needs, or is considered drought tolerant.

Resource-conserving crop rotation means a crop rotation that—

(1) Includes at least one resource-conserving crop as determined by NRCS;

(2) Reduces erosion;

(3) Improves soil fertility and tilth;

(4) Interrupts pest cycles;

(5) Builds soil organic matter; and

(6) In applicable areas, reduces depletion of soil moisture or otherwise reduces the need for irrigation.

* * * * *

Robert Stephenson,
Executive Vice President, Commodity Credit Corporation.
Terry Cosby,
Chief, Natural Resources Conservation Service.

[FR Doc. 2021-16288 Filed 8-2-21; 8:45 am]

BILLING CODE 3410-16-P